DEPARTMENT OF JUSTICE

Federal Bureau of Investigation

Meeting of the Compact Council for the National Crime Prevention and Privacy Compact

AGENCY: Federal Bureau of Investigation, Department of Justice.

ACTION: Meeting Notice.

SUMMARY: The purpose of this notice is to announce a meeting of the National Crime Prevention and Privacy Compact Council (Council) created by the National Crime Prevention and Privacy Compact Act of 1998 (Compact). Thus far, the Federal Government and 30 states are parties to the Compact which governs the exchange of criminal history records for licensing, employment, and similar purposes. The Compact also provides a legal framework for the establishment of a cooperative federal-state system to exchange such records.

DATES: The Council will meet in open session from 9 a.m. until 5 p.m., on May 10-11, 2017.

ADDRESSES: The meeting will take place at the Sheraton Pittsburgh Hotel at Station Square, 300 West Station Square, Pittsburgh, Pennsylvania, telephone 412-261-2000.

FOR FURTHER INFORMATION CONTACT: Inquiries may be addressed to Mrs. Chasity S. Anderson, FBI Compact Officer, Module D3, 1000 Custer Hollow Road, Clarksburg, West Virginia 26306, telephone 304-625-2803, facsimile 304-625-2868.

SUPPLEMENTARY INFORMATION: The United States Attorney General appointed 15 persons from state and federal agencies to serve on the Council. The Council will prescribe system rules and procedures for the effective and proper operation of the Interstate Identification Index system for noncriminal justice purposes.

Matters for discussion are expected to include:

(1) Update on the Child Care and Development Block Grant Act Background Check Requirements

(2) A Review and Update of the Compact Council's Strategic Plan

(3) Update on the Work of the National Fingerprint File Qualifications Requirements Focus Group

The meeting will be open to the public on a first-come, first-seated basis. Any member of the public wishing to file a written statement with the Council or wishing to address this session of the Council should notify the Federal Bureau of Investigation (FBI) Compact Officer, Mrs. Chasity S. Anderson at (304) 625-2803, at least 24 hours prior to the start of the session. The notification should contain the individual's name and corporate designation, consumer affiliation, or government designation, along with a short statement describing the topic to be addressed and the time needed for the presentation. Individuals will ordinarily be allowed up to 15 minutes to present a topic.

Dated: March 29, 2017.
Chasity S. Anderson,
FBI Compact Officer, Criminal Justice Information Services Division, Federal Bureau of Investigation.

[FR Doc. 2017-06820 Filed 4-5-17; 8:45 am]

BILLING CODE 4410-02-P